DEPARTMENT OF COMMERCE

National Oceanic and Atmospheric Administration

RIN 0648-XP55

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold meetings of its Marianas Advisory Panel (AP), Plan Team (PT), Commonwealth of the Northern Mariana Islands (CNMI) Archipelago Fishery Ecosystem Plan Regional Ecosystem Advisory Committee (REAC), and Guam REAC which may make recommendations on fishery management issues in the Western Pacific Region.

DATES: The Marianas Archipelago AP Meeting will be held on June 13, 2009, the Marianas Archipelago PT Meeting will be held on June 15, 2009, and the CNMI REAC will be held on June 16, 2009. All of these meetings will be held in Saipan, CNMI. The Guam REAC will be held on June 18, 2009 in Guam. For specific times and agendas, see SUPPLEMENTARY INFORMATION.

ADDRESSES: The Marianas Archipelago AP, Marianas Archipelago PT and CNMI REAC will be held at the Fiesta Resort and Spa, Coral Reef Avenue, Saipan, CNMI; telephone: (670) 234-6412. The Guam REAC will be held at the Guam Hilton Resort and Spa, 202 Hilton Road, Tumon Bay, Guam; telephone: (671) 646-1835.

FOR FURTHER INFORMATION CONTACT: Kitty M. Simonds, Executive Director; telephone: (808) 522-8220.

SUPPLEMENTARY INFORMATION: In addition to the agenda items listed here, the AP, PT, and REACs may receive reports and make recommendations on emerging fishery issues in the Marianas Archipelago. Public comment periods will be provided in the agendas. The order in which agenda items are addressed may change. The meetings will run as late as necessary to complete scheduled business.

Schedule and Agenda for Marianas AP Meeting:

9:00 a.m.—5:00 p.m. Saturday, June 13, 2009

1. Welcome and Introductions of Members

2. Introduction to the Council and Magnuson Stevens Act

3. Status Report on 2008 Advisory Panel Recommendations

4. Emerging Fishery Issues

5. Synopsis of Upcoming 145th Council Meeting Actions

A. Management Options for Pacific National Marine Monuments

i. Non-commercial Fishing Definitions

ii. Management Measures for Non-commercial Fishing

iii. Management Measures for Commercial Fishing

B. Report on Marianas Risk-ranking Exercise and Annual Catch Limits

6. Update on Fishery Management Actions

A. CNMI Bottomfish Regulations and Compliance

B. Update on Cooperative Research Process and Programs

7. Ecosystem Issues

A. Military Activities in the Marianas Archipelago

i. Process for Notification of Training Exercise Areas

ii. Area Restrictions Around Military Instillations

iii. Dredging and Dumping Activities

B. Update on the Status of the Micronesian Challenge in CNMI

C. Plans to Address Non-point Source Pollution

D. Report on Longline Efforts in CNMI

8. Community Issues

A. Report on Marianas Archipelago Lunar Calendar

B. Guam Seasonal Fishing Exemptions

C. CNMI Traditional Fishing Exemptions

D. Report on the Marine Education and Training Program

E. Report on the Community Development Plan and Community Demonstration Projects Program

9. Other Business

10. Public Comment

11. Discussion and Recommendations

Schedule and Agenda for Marianas Archipelago PT Meeting:

9:00 a.m.—5:00 p.m., Monday, June 15, 2009

1. Welcome and Introductions

2. Status of 2008 Marianas Archipelago PT Recommendations

3. Synopsis of Upcoming 145th Council Meeting Actions

A. Management Options for Pacific National Marine Monuments

i. Non-commercial Fishing Definitions

ii. Management Measures for Non-commercial Fishing

iii. Management Measures for Commercial Fishing

B. Report on Marianas Risk-ranking Exercise and Annual Catch Limits

4. Bottomfish Management

A. Marianas Archipelago Annual Report Modules

i. Guam

ii. CNMI

B. Report on CNMI Bottomfish Regulations and Compliance

5. Coral Reef Ecosystem Management

A. Marianas Archipelago Annual Report Modules

i. Guam

ii. CNMI

B. Update on Council Coral Reef Conservation Projects

i. Report on CNMI Oceanographic Sensor Project

ii. Report on Guam Technical Assistant Project

iii. Report on Marianas Parrotfish Study

C. Update on the Status of the Micronesian Challenge in CNMI

6. Other Programs

A. Report on the Marine Education and Training Program

B. Update on Cooperative Research Process and Programs

7. Other Business

8. Public Comment

9. Discussion and Recommendations

Schedule and Agenda for CNMI REAC Meeting:

9:00 a.m.—5:00 p.m. Tuesday, June 16, 2009

1. Welcome and Introductions

2. Council and REAC Roles and Responsibilities

3. Status of 2008 CNMI REAC Recommendations

4. Management of the Marianas Trench Marine National Monument

A. Non-commercial Fishing Definitions

B. Management Measures for Fishing in the Monument

5. Community Marine Management Forum

A. Military Buildup-Marianas Training Range Complex: Fishing Safety and Effort at FDM

B. Non-point Source Pollution

i. Report on Pollution Issues in Rota

ii. Watershed Effects in CNMI

C. Report on Coral Reef Local Action Strategies

D. Update on Status of Micronesian Challenge in CNMI

Guest Speaker-Pelagic Fishing in the Mariana Archipelago: From the Pre-historic Period to the Present

6. Community Consultation Forum

A. Update on the Mariana Archipelago Lunar Calendar

B. Report on the Marine Education and Training Program

7. Update on Federal Fishery Management Actions

A. CNMI Bottomfish Regulations and Compliance

B. CNMI Longline Closure Areas

8. Other Business

9. Public Comment

10. Discussion and Recommendations

Schedule and Agenda for Guam REAC Meeting:

9:00 a.m.—5:00 p.m. Thursday, June 18, 2009

1. Welcome and Introductions

2. Council and REAC Roles and Responsibilities

3. Status of 2008 CNMI REAC Recommendations

4. Management of the Marianas Trench Marine National Monument

A. Non-commercial Fishing Definitions

B. Management Measures for Fishing in the Monument

5. Community Marine Management Forum

A. Military Buildup-Marianas Training Range Complex: Fishery Safety and Effort

B. Land Use Issues, Mitigation, and Habitat Restoration

6. Community Consultation Forum

A. Indigenous Fishing Rights: Access to Safe, Healthy Habitat for Sustainable Fishing

B. Traditional Fishing Exemption Process

C. Update on the Mariana Archipelago Lunar Calendar

Guest Speaker-Pelagic Fishing in the Mariana Archipelago: From the Pre-historic Period to the Present

7. Community Development Forum

A. Report on the Marine Education and Training Program

B. Local Capacity Building in Guam

C. Update on the Cooperative Research Process and Programs

8. Other Business

9. Public Comment

10. Discussion and Recommendations

Special Accommodations

These meetings are physically accessible to people with disabilities. Requests for sign language interpretation or other auxiliary aids should be directed to Kitty M. Simonds, (808)522-8220 (voice) or (808)522-8226 (fax), at least five days prior to the meeting date.

Authority: 16 U.S.C. 1801 et seq.

Dated: May 26, 2009
Tracey L. Thompson,
Acting Director, Office of Sustainable Fisheries, National Marine Fisheries Service.

[FR Doc. E9-12506 Filed 5-28-09; 8:45 am]

BILLING CODE 3510-22-S